ENVIRONMENTAL PROTECTION AGENCY

[OAR-2004-0065; FRL-7782-6]

Agency Information Collection Activities; Submission to OMB for Review and Approval; Comment Request; Application Requirements for the Approval and Delegation of Federal Air Toxics Programs to State, Territorial, Local, and Tribal Agencies (Renewal), ICR Number 1643.05, OMB Number 2060-0264

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on June 30, 2004. Under OMB regulations, the Agency may continue to conduct or sponsor the collection of information while this submission is pending at OMB. This ICR describes the nature of the information collection and its estimated burden and cost.

DATES: Additional comments may be submitted on or before August 6, 2004.

ADDRESSES: Submit your comments, referencing docket ID number OAR-2004-0065 to (1) EPA online using EDOCKET (our preferred method), by e-mail to a-and-r-docket@epa.gov, or by mail to: Environmental Protection Agency, EPA Docket Center (EPA/DC), Air and Radiation Docket and Information Center, Mail Code 6102T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Mr. Jeff Whitlow, Office of Air Quality Planning and Standards, U.S. Environmental Protection Agency, Mail Code C439-04, Research Triangle Park, NC 27711; telephone number 919-541-5523; fax number 919-541-0942; e-mail address: whitlow.jeff@epa.gov.

SUPPLEMENTARY INFORMATION: EPA has submitted the following ICR to OMB for review and approval according to the procedures prescribed in 5 CFR 1320.12. On April 30, 2004 (69 FR 23739), EPA sought comments on this ICR pursuant to 5 CFR 1320.8(d). EPA received no comments.

EPA has established a public docket for this ICR under Docket ID No. OAR-2004-0065, which is available for public viewing at the Air and Radiation Docket in the EPA Docket Center (EPA/DC), EPA West, Room B102, 1301 Constitution Ave., NW, Washington, DC. The EPA Docket Center Public Reading Room is open from 8:30 a.m. to 4:30 p.m., Monday through Friday, excluding legal holidays. The telephone number for the Reading Room is (202) 566-1744, and the telephone number for the Air and Radiation Docket is (202) 566-1742. An electronic version of the public docket is available through EPA Dockets (EDOCKET) at http://www.epa.gov/edocket. Use EDOCKET to submit or view public comments, to access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Title: Application Requirements for the Approval and Delegation of Federal Air Toxics Programs to State, Territorial, Local, and Tribal Agencies (Renewal).

Abstract: This information collection is a voluntary application from State, Territorial, Local, and Tribal Agencies (S/L/Ts) for delegation of regulations developed under section 112 of the Clean Air Act (CAA). In the time frame for this submittal, the EPA estimates that the majority of the delegated regulations will be those developed under section 112(d) of the CAA. The procedures and requirements that the S/L/Ts will use to request the delegations are codified as 40 CFR part 63, subpart E, in accordance with section 112(l) of the CAA.

The subpart E regulations contain the following five options for delegation:

• Straight delegation

• Rule adjustment

• Rule substitution

• Equivalency by permit

• State program approval

Straight delegation is the option where the respondents, S/L/Ts, choose to accept delegation of a section 112 provision and to implement and enforce the provision as written. The S/L/Ts may use the rule adjustment option when they want to substitute a rule and/or requirement that is unequivocally no less stringent than the otherwise applicable section 112 standard, such as a part 63 national emission standards for hazardous air pollutants (NESHAP). They may use rule substitution when they wish to substitute individual rules and/or requirements in place of the otherwise applicable section 112 standard. They may use the equivalency by permit option when they wish to substitute operating permit terms and conditions for a section 112 standard; this option is only applicable to a limited number of sources using title V permit terms and conditions. Finally, S/L/Ts may use the State program approval option if they want to substitute their overall air toxics program for the Federal air toxics program; i.e., the section 112(d) standards.

The delegation options vary in the types of changes allowed, the level of demonstration required, and the amount of time and process needed to implement them. Respondents must submit any packages requesting delegation to their EPA Regional office. We must then review and approve, partially approve, or disapprove the request based on the subpart E approval criteria. The request may only take effect after our approval (or partial approval of a subset of the request), public notice, and, in some cases, public comment.

The information is needed and used to determine if the entity submitting an application has met the criteria established in the subpart E rule. This information is necessary for the Administrator to determine the acceptability of approving the S/L/T's rules, requirements, or programs in lieu of the Federal section 112 rules or programs. The collection of information is authorized under 42 U.S.C. 7401-7671q.

All information submitted to us for which a claim of confidentiality is made will be safeguarded according to the policies set forth in Title 40, Chapter 1, part 2, subpart B, Confidentiality of Business Information.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 41,577 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; to adjust the existing ways to comply with any previously applicable instructions and requirements; to train personnel to be able to respond to a collection of information; to search data sources; to complete and review the collection of information; and to transmit or otherwise disclose the information.

Respondents/Affected Entities: Entities potentially affected by this action are State, territorial, local, or tribal agencies (SLTs).

Estimated Number of Respondents: 124.

Frequency of Response: One time per request for substitution.

Estimated Total Annual Hour Burden: 41,577.

Estimated Total Annual Cost: $1,816,490, which includes $1,790,760 annual labor costs, $25,720 total annual capital costs, and $0 O&M costs.

Changes in the Estimates: There is a decrease of 95,972 hours in the total estimated burden currently identified in the OMB Inventory of Approved ICR Burdens. This decrease is due to a program adjustment. The following discussion explains these changes. The changes in burden are related to four main changes: (1) A reduced number of occurrences related to the number of participating S/L/Ts and the number of NESHAP delegated; (2) a change in the distribution of S/L/Ts using each option; (3) the assumption that some portions of the subpart E program will not be used over the next 3 years; and (4) the reduction of hours per occurrence related to overall program approval.

Dated: June 9, 2004.
Oscar Morales,
Director, Collection Strategies Division.

[FR Doc. 04-15343 Filed 7-6-04; 8:45 am]

BILLING CODE 6560-50-P